ENVIRONMENTAL PROTECTION AGENCY

[FRL-7628-7]

Office of Environmental Justice Hazardous Substances Research Small Grants Program—Application Guidance for FY 2004

AGENCY: Environmental Protection Agency (EPA).

ACTION: Notice.

SUMMARY: The purpose of this grant program is to provide financial assistance to affected local community-based organizations to support projects that examine issues related to a community's exposure to multiple environmental harms and risks. Projects must be of a research nature only, i.e., survey, research, collecting and analyzing data which will be used to expand scientific knowledge or understanding of the subject studied. The EPA's grant regulations define “research” as “the systematic study directed toward fuller scientific knowledge or understanding of the subject studied,” 40 CFR 30.2(dd). Research activities under this grant program do not include “development” as defined in 40 CFR 30.2 (dd). The EPA has interpreted “research” to include studies that extend to socioeconomic, institutional, and public policy issues, as well as the “natural” sciences. Research projects need not be limited to academic studies. EPA intends for the results of these research projects to be disseminated to members of the affected local community. Funds can be used to develop a new activity or substantially improve the quality of existing programs that have a direct impact on affected local community residents.

DATES: The application must be delivered by close of business Friday, April 30, 2004, to the appropriate EPA regional office (listed in section VII) or date stamped by courier service or postmarked by the U.S. Postal Service by midnight Friday, April 30, 2004.

ADDRESSES: For specific application delivery please contact the appropriate EPA regional office listed in section VII of the application guidance.

FOR FURTHER INFORMATION CONTACT: Sheila Lewis, Senior Program Analyst, EPA Office of Environmental Justice, (202) 564-0152.

SUPPLEMENTARY INFORMATION:

I. Funding Opportunity Description

II. Award Information

III. Eligibility Information

IV. Application and Submission Information

V. Application Review Information

VI. Award Administration Information

VII. Agency Contact(s)

VIII. Other Information

Translations Available

A Spanish translation of this application is available at 1-800-952-6215. It can also be downloaded from http://www.epa.gov/complicance/recent/ej.html.

Section I—Funding Opportunity Description

Scope of the Environmental Justice Hazardous Substances Research Small Grant Program

In its 1992 report entitled, “Environmental Equity: Reducing Risk for All Communities,” the EPA found that minority and/or low-income populations may experience disproportionate exposure to environmental harms and risks. The EPA established the Office of Environmental Justice (OEJ) in 1992 to help, among other things, these communities identify and assess pollution sources, to implement environmental awareness and training programs for affected local community residents, and to work with community stakeholders to devise strategies for environmental and/or public improvements.

In June of 1993, OEJ was delegated grant authority to solicit, select, assist, and evaluate environmental justice-related projects, and to disseminate information on the projects' content and effectiveness. FY 1994 marked the first year of what is now called the Environmental Justice Hazardous Substances Research Small Grants Program. The chart below shows how the grant monies have been distributed since FY 1994.

Fiscal year | Dollar amount | Number of awards
1994 | 500,000 | 71
1995 | 3,000,000 | 175
1996 | 2,800,000 | 152
1997 | 2,700,000 | 139
1998 | 2,500,000 | 123
1999 | 1,455,000 | 95
2000 | 899,000 | 61
2001 | 1,300,000 | 88
2002 | 1,113,000 | 73
2003 | 920,000 | 55

Environmental Justice Defined Under the Environmental Justice Hazardous Substances Research Small Grants Program

Environmental justice is the fair treatment and meaningful involvement of all people regardless of race, color, national origin, or income with respect to the development, implementation, and enforcement of environmental laws, regulations, and policies. Fair treatment means that no one group of people, including racial, ethnic, or socioeconomic groups, should bear a disproportionate share of the negative environmental consequences resulting from industrial, municipal, and commercial operations or the execution of Federal, State, local, and tribal environmental programs and policies. Meaningful involvement means that: (a) The potentially affected community residents have an appropriate opportunity to participate in decisions about a proposed activity that will affect their environment and/or health; (b) the public's contribution can influence the regulatory agency's decision; (c) the concerns of all participants involved will be considered in the decision-making process; and (d) the decision-makers seek out and facilitate the involvement of those potentially affected.

Purpose of the Environmental Justice Hazardous Substances Research Small Grants Program

The purpose of this grant program is to provide financial assistance to eligible affected local community-based organizations that are working on or plan to carry out projects to address environmental and/or public health concerns. Funds can be used to develop a new activity or substantially improve the quality of existing programs that have a direct impact on affected local communities. All awards will be made in the form of a $25,000 grant not to exceed one year.

The OEJ, which manages the Agency's national Environmental Justice Hazardous Substances Research Small Grants Program, is soliciting grant applications for projects intended to examine issues related to a community's exposure to multiple environmental harms and risks. Issues of environmental justice often involve multiple sources of contamination, their cumulative impacts on the environment, and their effect on human health. Some of these sources may include multiple industrial facilities and the various contaminants they emit, environmental hazards at the workplace or home, transportation-related pollution, contamination from drinking water, or contamination resulting from the consumption of fish or other subsistence food. These situations may occur in urban, suburban, rural or tribal settings. A more holistic approach to environmental protection goes beyond setting limits for individual pollutants and facilities in isolation. Information must take into account the multiple impacts of all pollutants in the environment. In environmentally overburdened low-income, minority or tribal communities, a focus on the impacts from multiple environmental harms and risks can greatly assist the communities in understanding their environmental issues and developing more effective solutions to their environmental and/or public health concerns.

Grant funds shall be used to support research activities that examine issues related to a community's exposure to multiple environmental harms and risks. Projects must be of a research nature only, i.e., survey, research, collecting and analyzing data which will be used to expand scientific knowledge or understanding of the subject studied. Research projects, however, need not be limited to academic studies. The EPA has interpreted “research” to include studies that extend to socioeconomic, institutional, and public policy issues and the “natural” sciences. Projects may include the following activities: (1) Research related to the detection, assessment, and evaluation of the effects on and risks to human health from hazardous substances and the detection of hazardous substances in the environment; (2) design and demonstrate field methods, practices, and techniques, including assessment of environmental and ecological conditions and analysis of environmental and public health problems; (3) identification and assessment of multiple environmental harms and risks and/or public health concerns in the community; (4) case studies on practices and techniques for detecting and effectively responding to hazardous substance contamination; and (5) identification of institutional and public policy barriers to detecting, assessing and evaluating hazardous substance contamination in communities. Research cannot relate to contamination from petroleum products in accordance with the definition of hazardous substances indicated in the Comprehensive Environmental Response, Compensation, and Liability Act (CERCLA), section 101(14). Projects that involve incidental petroleum contamination that is “mixed” with other contaminants may be considered on a case-by-case basis. Any training activities must be limited to training in research techniques. Funding under this assistance program is not available for general organizational support, capacity building, program development or other activities unrelated to research.

Goal for Research Projects

In addition to the special research requirements for grants under CERCLA outlined above, the application must include a description of how the research projects will examine and address the issue of multiple environmental harms and risks.

Please note: A Quality Assurance Plan (QAP) must be submitted to your EPA Project Officer prior to the beginning of the research for projects that include scientific research and/or data collection.

Anticipated Accomplishments (Performance Measures) for the Environmental Justice Hazardous Substances Research Small Grants Program

As required by 40 CFR 30.60, anticipated accomplishments must be stated. The overarching goal of the Environmental Justice Hazardous Substances Research Small Grants Program is to build the capacity of the affected local communities to address strategically the multiple environmental harms and risks that impact the environment and/or health of the residents.

The following criteria will be used by EPA to measure the success of the overall program. These criteria are for the evaluation of the grant program as a whole and each grantee should consider these criteria as they develop their own project performance measures:

1. Documentation and identification of the local environmental and/or public health issues;

2. Development of mechanisms to share lessons learned from the process; and

3. Identification of tangible environmental and/or health benefits.

Consistent with the factors EPA will use, the following measures will be used to evaluate the success of the Environmental Justice Hazardous Substances Research Small Grants Program, including, but not limited to:

• Significant improvement in the quality of life issues for the affected local communities is achieved;

• Community capacity is significantly improved for program participants;

• Outcomes or lessons learned in affected local communities are transferred to other similarly situated communities; and

• Enhanced community understanding of environmental and public health information systems and general information on pollution in the community.

Section II—Award Information

The total amount of funding available for this program is approximately $500,000 in grant funds to eligible organizations (pending availability of funds). All awards will be made in the form of a Federal grant, each award in an amount of $25,000, to be used over a one-year period. Activities must be completed and funds spent within the one year period specified in the grant award. Project start dates will depend on the grant award date (most projects begin in August or September). The recipient organization is responsible for the successful completion of the project. EPA will consider only one application per applicant for any given project. However, applicants that previously received small grant funds may submit an application for a separate project. Additionally, the Environmental Justice Hazardous Substances Research Small Grants Program is a competitive grant program. Every application for FY 2004 will be evaluated based on the merits of the proposed project in comparison to other FY 2004 applications. Applicants may not receive Federal funding from more than one source for the same project.

Section III—Eligibility Information

1. Eligible Applicants: Affected local community-based community organizations. An affected local community-based organization (LCBO) is defined for this grant program as an entity/organization that is (1) at the most basic level of the organizational hierarchy such as a grassroots group/neighborhood organization that is not affiliated with a larger national, regional or state organization; (2) located in the same area as the environmental and/or public health problem that is described in the application and where the residents of the affected community reside; (3) focused primarily on addressing the environmental and/or public health problems of the residents of the affected community; and (4) comprised primarily of members of the affected community. “Affected” is defined as being in the locale which is influenced or altered by the environmental/public health problem. An applicant must meet all of the above requirements and must explain how it fits each of those requirements in the application. An applicant must be a nonprofit organization as demonstrated through designation by the Internal Revenue Service as a section 501(c)(3) organization or through incorporation as a nonprofit organization under applicable State law in order to receive Federal funds under this grant program. Individuals; universities; State, local, and tribal governments; water districts or similar entities; large non-governmental organizations such as national environmental groups; environmental justice networks; or organizations that are not located in the affected communities where the projects are located are not eligible to receive Federal funds under this grant program.

2. Cost Sharing or Matching: None required.

3. Types of Projects Eligible for Funding: The OEJ, which manages the Agency's national Environmental Justice Hazardous Substances Research Small Grants Program, is soliciting grant applications for projects intended to examine issues related to a community's exposure to multiple environmental harms and risks. Issues of environmental justice often involve multiple sources of contamination, their cumulative impacts on the environment, and their effect on human health. Some of these sources may include multiple industrial facilities and the various contaminants they emit, environmental hazards at the workplace or home, transportation-related pollution, contamination from drinking water, or contamination resulting from the consumption of fish or other subsistence food. These situations may occur in urban, suburban, rural or tribal settings. A more holistic approach to environmental protection goes beyond setting limits for individual pollutants and facilities in isolation. Information must take into account the multiple impacts of all pollutants in the environment. In environmentally overburdened low-income, minority or tribal communities, a focus on the impacts from multiple environmental harms and risks can greatly assist the communities in understanding their environmental issues and developing more effective solutions to their environmental and/or public health concerns.

Projects may include the following activities: (1) Research related to the detection, assessment, and evaluation of the effects on and risks to human health from hazardous substances and the detection of hazardous substances in the environment; (2) design and demonstrate field methods, practices, and techniques, including assessment of environmental and ecological conditions and analysis of environmental and public health problems; (3) identification and assessment of multiple environmental harms and risks and/or public health concerns in the affected community; (4) case studies on practices and techniques for detecting and effectively responding to hazardous substance contamination; and (5) identification of institutional and public policy barriers to detecting, assessing and evaluating hazardous substance contamination in affected communities.

Examples of Projects—Involving “Multiple Environmental Harms and Risks” in the Community

The following projects are provided for illustrative purposes only and are not intended to reflect all of the possible types of projects eligible under this grant program.

Project Example No. 1

This project focuses on hazardous substances research. Youth project participants will: (1) Receive training to help them research what substances are being transported on trains; (2) identify hazardous substances through visual and video recordings of placards on trains and through contact with Union Pacific representatives; (3) analyze recorded data and input it into a computer database; (4) research the potential effects of a spill or accident involving each substance and what the implications are for the surrounding neighborhood; (5) research what actions community members should take in the event of a spill or accident; (6) compile results and make findings available for presentations; (7) publish the results in a bound report; and (8) keep a journal of activities that can be used as a model by youth organizations nationwide conducting research in their own neighborhoods.

Project Example No. 2

The project involves research, investigations, experiments, demonstrations, surveys and studies relating to the causes, extent, prevention, reduction and elimination or control of pollution of the water and air, which is impacted by urban industrialization and toxic wastes. Local high school and college students will learn how to conduct river research and report their findings. The purpose of the project is to teach students research techniques and how to communicate their findings. The project will provide information through community newsletters, river tours, and presentations to other stakeholders.

Section IV—Application and Submission Information

1. Address to Request Applications: Application guidance is available upon request by contacting your regional office listed in section VII or on the EPA's Web site at http://www.epa.gov/compliance/environmentaljustice/grants/index.html.

2. Content and Form of Application Submission: Proposals from eligible organizations must have the following:

(1) The Application for Federal Assistance (SF 424) is the official form required for all Federal grants that requests basic information about the grantee and the proposed project. The applicant must submit the original application form, and one copy, signed by a person duly authorized by the governing board of the applicant. Please complete part 10 of the SF 424 form, “Catalog of Federal Domestic Assistance Number” with the following information: 66.604—Environmental Justice Hazardous Substances Research Small Grants Program. Grant applicants are required to provide a Dun and Bradstreet (D&B) Data Universal Numbering System (DUNS) number when applying for Federal grants. Organizations can receive a DUNS number in one day, at no cost, by calling the dedicated toll-free DUNS Number request line at 1-866-705-0025.

The Web site where an organization can obtain a DUNS number is: http://www.dnb.com. This is a new requirement from the Office of Management and Budget for grants, effective October 1, 2003. See Appendix B for a copy of this form and a completed sample.

(2) The Federal Standard Form (SF 424A) which provides information on your budget. For the purposes of this grant program, complete only the non-shaded areas of SF 424A.

(3) Detailed Budget estimates should support your work plan narrative. See Appendix B for a sample of a budget detail.

(4) A work plan narrative of the proposal is not to exceed five (5) pages. A work plan narrative describes the applicant's proposed project. The pages of the work plan must be letter size (8½ × 11 inches), with normal type size (12 characters per inch), and at least 1 inch margins.

The work plan narrative is one of the most important aspects of your application and (assuming that all other required materials are submitted) will be used as the primary basis for selection. Work plans must be submitted as follows;

a. A one-page summary that identifies the following:

1. Environmental and/or public health concerns to be addressed by the project;

2. The community/target audience; and

3. The program goal(s) that the project will meet and how it will meet it.

b. A concise introduction that states:

1. The nature of the organization (i.e., how long it has been in existence and how the applicant meets the definition of an affected local community-based organization);

2. How the organization has been successful in the past;

3. The purposes of the project;

4. Detailed characteristics of the affected community/target audience (racial, ethnic and socioeconomic);

5. Projects completion plans/time frames, and

6. Expected results.

C. A concise project description that describes the activities the organization will undertake to examine and address the issue of multiple environmental harms and risks in the target community.

d. A conclusion discussing how the applicant will evaluate and measure the success of the project, including anticipated benefits and challenges in implementing the project.

e. Anticipated accomplishments must be stated along with a set of performance measures for how you will determine the overall success of your project at meeting those accomplishments. (Refer to page 4 for a discussion of how EPA will measure the success of the overall grant program.)

(5) An appendix with resumes of up to three key personnel who will be significantly involved in the project.

(6) Nonprofit Status. The applicant must provide documentation of the organization's nonprofit status.

(7) Other Submission Requirements: Please list the title of the project and amount of funding provided by EPA for any other grants or cooperative agreements from EPA in the last three years.

Applications that do not include all applicable information listed above, will not be considered for an award. Applications that propose projects that are inconsistent with the EPA's statutory authority for this program or the activity for the program are ineligible for funding and will not be evaluated.

3. Submission Dates and Times: The full application package must be date stamped by courier service or postmarked by the U. S. Postal Service by midnight, Friday, April 30, 2004. Use the appropriate EPA regional office address listed in section VII.

4. Confidentiality and Intergovernmental Review: Confidentiality: Please mark any information in the proposal that you consider confidential. EPA will follow the procedures at 40 CFR part 2 if information marked confidential is requested from the Agency under the Freedom of Information Act.

Intergovernmental Review: Your application to this EPA program may be subject to your State's intergovernmental review process and/or the consultation requirements of section 204, Demonstration Cities and Metropolitan Development Act. See 40 CFR part 29 for details. Check with your State's Single Point of Contact to determine your requirements. Some States do not require this review. Applicants from American Samoa, Guam, Puerto Rico, and the U.S. Virgin Islands should also check with their Single Point of Contact. A list of the States' Single Point of Contact is available at http://www.whitehouse.gov/omb/grants/spoc.html.

5. Are There Any Restrictions on the Use of the Federal Funds? Yes. EPA grant funds can only be used for the purposes set forth in the grant agreement, and be consistent with the statutory authority for the award. Grant funds from this program cannot be used for matching funds for other Federal grants, lobbying, or intervention in Federal regulatory or adjudicatory proceedings. In addition, the recipient may not use these Federal assistance funds to sue the Federal government or any other government entity. Refer to 40 CFR 30.27, entitled “Allowable Costs” (see Appendix C). The scope of environmental justice grants may not include construction, promotional items (e.g., T-shirts, buttons, hats), and furniture purchases. Applicants may not receive funding from more than one source for the same project.

Section V—Application Review Information

1. Evaluation Criteria: All applications will be reviewed and scored according to the following criteria:

A. Threshold Criteria. Applications that do not include all items list in section IV, 2. Content and Form of Application Submission, will not be considered for an award and will not be scored. Additionally, applications that propose projects that are inconsistent with the EPA's statutory authority for this program or the activity for the program are ineligible for funding and will not be scored. Regional offices will contact applicants whose proposals do not meet the threshold requirements to determine whether the proposal can be revised to meet the threshold requirements.

B. Scoring Criteria. Applications meeting the threshold criteria will be scored by an EPA Review Panel, consisting of regional staff, and selected according to the following criteria. The corresponding points next to each criterion are the weights EPA will use to score the applications. Points will range depending on how well the applicant meets the given criterium. Please note that certain sections are given greater weight than others. The application will be scored based on the following evaluation criteria:

(1) The extent to which the work plan narrative clearly and effectively describes the following: (35 points)

a. An environmental and/or public health concerns related to the multiple environmental harms and risks affecting a community. (20)

b. The target community being served (e.g., demographics, socioeconomic characteristics, geographic location, etc.). (5)

c. The nature of the organization (i.e., how the applicant meets the definition of an affected local community-based organization). (10)

(2) The extent to which the proposal includes the following: (40 points)

a. Specific realistic goals and objectives that deal with the environmental justice issue(s). (15)

b. A well-conceived strategy to achieve the goals and objectives. (15)

c. A description of partnering or participating community organizations, universities and local governments. Describe how they will participate in the project and explain the strategies for cooperation and communication with the identified organizations or governments. (10)

(3) The extent to which the project clearly and effectively discusses how the applicant will evaluate the success of the project including appropriate qualitative and quantitative measures. (15 points)

(4) The extent to which the project has participants who are well qualified to conduct the proposed project based on a demonstrated record of success in their area of expertise? (10 points)

(Attention: The qualifications of the recipient's Project Manager is subject to approval by the EPA Project Officer.)

2. Review and Selection Process: The EPA regional offices will review, evaluate, and select grant recipients. Applications will be screened to ensure that they meet all eligibility and threshold requirements described in sections II-IV. Applications which meet the threshold requirements will be scored by regional review panels based on the evaluation criteria outlined above.

After the individual projects are scored, the EPA regional officials will compare the best applications and make final recommendations. Additional factors that the EPA will take into account include geographic and socioeconomic balance, diverse nature of the projects, cost, past performance and projects whose benefits can be sustained after the grant is completed. Regional Administrators will select the final grants. Please note that this is a very competitive grant program. Limited funding is available and EPA expects to receive many grant applications. Therefore, the Agency cannot fund all applications. A listing of other EPA grant programs may be found in the Catalog of Federal Domestic Assistance. This publication is available on the Internet at www.cfda.gov and at local libraries, colleges, or universities.

3. Anticipated Announcement and Award Dates:

February 27, 2004. FY 2004 Environmental Justice Hazardous Substances Research Small Grants Program Application Guidance is available on www.fedgrants.gov and http://www.epa.gov/compliance/environmentaljustice/grants/ej_smgrants.html. Hard copies are available upon request.

February 27, 2004, to April 30, 2004. Eligible grant recipients develop and complete their applications.

April 30, 2004. The application must be date stamped by courier service or postmarked by the U.S. Postal Service by midnight, Friday, April 30, 2004.

May 4, 2004, to July 30, 2004. EPA program officials review and evaluate applications and select grant finalists.

July 30, 2004, to September 30, 2004. Applicants will be contacted by the Region if their applications are being considered for funding. Additional information may be required from the finalists, as indicated in section IV. The EPA regional grants offices will process grants and make awards.

September 30, 2004. EPA expects to announce the FY 2004 Environmental Justice Hazardous Substances Research Small Grants recipients.

Section VI—Award Administration Information

1. Award Notices

After all applications are received, acknowledgments will be mailed to applicants. Once applications have been recommended for funding, the EPA Regions will notify the finalists and request any additional information necessary to complete the award process. The finalists will be required to complete additional government application forms before receiving a grant, such as the EPA Form SF-424B (Assurances—Non-Construction Programs) and EPA Form 5700-49, the Certification Regarding Debarment, Suspension, and Other Responsibility Matters. The Federal government requires all grantees to certify and assure that they will comply with all applicable Federal laws, regulations, and requirements. The designated EPA official or their designees will notify those applicants whose projects are not selected for funding.

2. Reporting

Unless specified in the award, all recipients must submit final reports for EPA approval within ninety (90) days of the end of the project period. Specific report requirements (e.g., Quarterly or Semiannual Progress Reports, a Final Technical Report and a Financial Status Report) will be described in the award agreement. The EPA will collect, review, and disseminate grantees' final reports to serve as models.

For further information about this program, please visit the EPA's Web site at http://www.epa.gov/compliance/environmentaljustice/grants/ej_smgrants.html.

Section VII—Agency Contact(s)

When and Where Must Applications Be Submitted?

The applicant must submit/mail one signed original application with required attachments and one copy to the primary contact at the respective EPA regional office listed below. The application must be date stamped by courier service or postmarked by the U.S. Postal Service by midnight, Friday, April 30, 2004.

Regional Contact Names and Addresses

Region 1 Connecticut, Maine, Massachusetts, New Hampshire, Rhode Island, Vermont

Primary Contact: Kathy Castagna (617) 918-1429, castagna.kathleen@epa.gov, USEPA Region 1 (RAA), One Congress Street—11th Floor, Boston, MA 02203-0001.

Secondary Contact: Davina Wysin (617) 918-1020, wysin.davina@epa.gov.

Region 2 New Jersey, New York, Puerto Rico, U.S. Virgin Islands

Primary Contact: Terry Wesley (212) 637-5027, wesley.terry@epa.gov, USEPA Region 2, 290 Broadway, 26th Floor, New York, NY 10007.

Secondary: Tasha Frazier (212) 637-3861, frazier.tasha@epa.gov.

Region 3 Delaware, District of Columbia, Maryland, Pennsylvania, Virginia, West Virginia

Primary Contact: Reginald Harris (215) 814-2988, harris.reggie@epa.gov, USEPA Region 3 (3DA00), 1650 Arch Street, Philadelphia, PA 19103-2029.

Region 4 Alabama, Florida, Georgia, Kentucky, Mississippi, North Carolina, South Carolina, Tennessee

Primary Contact: Elvie Barlow (404) 562-9650, barlow.elvie@epa.gov, USEPA Region 4, 61 Forsyth Street, Atlanta, GA 30303-8960.

Secondary: Cynthia Peurifoy (404) 562-9649, peurifoy.cynthia@epa.gov.

Region 5 Illinois, Indiana, Michigan, Minnesota, Ohio, Wisconsin

Primary Contact: Margaret Millard (312) 353-1440, millard.margaret@epa.gov, USEPA Region 5 (DM7J), 77 West Jackson Boulevard, Chicago, IL 60604-3507.

Secondary: Alan Walts (312) 353-8894, walts.alan@epa.gov.

Region 6 Arkansas, Louisiana, New Mexico, Oklahoma, Texas

Primary Contact: Shirley Quinones (214) 665-2713, Quinones.shirley@epa.gov, USEPA Region 6, Fountain Place, 13th Floor, 1445 Ross Avenue (RA-D), Dallas, Texas 75202-2733.

Secondary Contact: Nelda Perez (214) 665-2209, perez.nelda@epa.gov.

Region 7 Iowa, Kansas, Missouri, Nebraska

Primary Contact: Pamela K. Johnson (913) 551-7480, johnson.pamelak@epa.gov, USEPA Region 7, 901 North 5th Street (RGAD/ECO), Kansas City, KS 66101.

Secondary: Monica Espinosa ( 913) 551-7058, espinosa.monica@epa.gov.

Region 8 Colorado, Montana, North Dakota, South Dakota, Utah, Wyoming

Primary Contact: Nancy Reish (303) 312-6040, reish.nancy@epa.gov, USEPA Region 8 (8ENF-EJ), 999 18th Street, Suite 300, Denver, CO 80202-2466.

Secondary: Jean Belille (303) 312-6556, belille.jean@epa.gov.

Region 9 Arizona, California, Hawaii, Nevada, American Samoa, Guam

Primary Contact: Karen Henry (415) 972-3844, henry.karen@epa.gov, USEPA Region 9 CMD-1, 75 Hawthorne Street, San Francisco, CA 94105.

Secondary: Nate Lau (415) 972-3839, lau.nate@epa.gov.

Region 10 Alaska, Idaho, Oregon, Washington

Primary Contact: Cecilia A. Contreras (206) 553-2899, contreras.cecilia@epa.gov, USEPA Region 10 (CRE-164), 1200 Sixth Avenue, Seattle, WA 98101.

Secondary: Susanne Salcido (206) 553-1687, salcido.susanne@epa.gov.

Section VIII—Other Information

How Can I Receive Information on the Fiscal Year 2005 (October 1, 2004 to September 30, 2005) Environmental Justice Hazardous Substances Research Small Grants Program?

If you wish to be placed on the national mailing list to receive information on the FY 2005 Environmental Justice Hazardous Substances Research Small Grants Program, e-mail your request along with your name, organization, address, and phone number to lewis.sheila@epa.gov or mail your request along with your name, organization, address, and phone number to: U.S. Environmental Protection Agency, Environmental Justice Hazardous Substances Research Small Grants Program (2201A), FY 2005 Grants Mailing List, 1200 Pennsylvania Avenue, NW., Washington, DC 20460, 1 (800) 962-6215.

If you wish to receive information on local Environmental Justice programs, you may mail or email your request along with your name, organization, address, and phone number to the appropriate regional office listed above.

Thank you for your interest in the Environmental Justice Hazardous Substances Research Small Grants Program.

Dated: February 24, 2004.
Linda K. Smith,
Acting Director, Office of Environmental Justice.

[FR Doc. 04-4465 Filed 2-27-04; 8:45 am]

BILLING CODE 6560-50-P